DEPARTMENT OF DEFENSE

Department of the Navy

[Docket ID: USN-2020-HQ-0001]

Submission for OMB Review; Comment Request

AGENCY: The Office of the Secretary of the Navy, DoD.

ACTION: 30-day information collection notice.

SUMMARY: The Department of Defense has submitted to OMB for clearance the following proposal for collection of information under the provisions of the Paperwork Reduction Act.

DATES: Consideration will be given to all comments received by April 20, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Naval Sea Systems Command and Field Activity Visitor Access Request; NAVSEA 5500/1 NAVSEA Visitor Sign In/Out Sheet; OMB Control Number 0703-0055.

Type of Request: Extension.

Number of Respondents: 5,200.

Responses per Respondent: 1.

Annual Responses: 5,200.

Average Burden per Response: 15 minutes.

Annual Burden Hours: 1,300.

Needs and Uses: The information collection requirement is necessary for Naval Sea Systems Command and Naval Sea Systems Command Field Activity's at Washington Navy Yard, Washington DC to verify that visitors who have appropriate credentials, clearance level, and need-to-know are granted access to NAVSEA spaces, if they have clearance for classified information, and allows NAVSEA Security to keep record of visitors to NAVSEA spaces. Respondents are Navy support contractors, individuals from other agencies visiting the Command and Field Activities, various members of the public.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: March 17, 2020.
Aaron T. Siegel,
Alternate OSD Federal Register Liaison Officer, Department of Defense.

[FR Doc. 2020-05947 Filed 3-19-20; 8:45 am]

BILLING CODE 5001-06-P